DEPARTMENT OF TRANSPORTATION

Federal Railroad Administration

[Docket Number FRA-2008-0010]

Petition for Waiver of Compliance

In accordance with part 211 of Title 49 of the Code of Federal Regulations (CFR), this provides the public notice that by a document dated October 20, 2016, Sonoma Marin Area Rail Transit District (SMART) requests a rescission of its existing waiver in Docket Number FRA-2008-0010.

In a April 3, 2009 decision letter, the Federal Railroad Administration (FRA) approved SMART's application for discontinuance and removal of the interlocking signal system on three drawbridges located on the former Northwestern Pacific Railroad. Among these three was the Haystack Landing Drawbridge over the Petaluma River at milepost (MP) 37.2. SMART is now requesting that the conditions of this relief be changed in order to facilitate the establishment of commuter rail operations on the entire mainline of the former Northwestern Pacific Railroad (NWP). This line is owned by SMART, has has been rebuilt to Class IV track standards, has been equipped with an Automatic Train Control (ATC) system meeting the requirements of 49 CFR part 236, and the deteriorated former swing span has been demolished and replaced with a newly rebuilt single-leaf bascule bridge meeting modern standards. The ATC system is interlocked with the new Haystack Landing Drawbridge and its approaches, including a complete surface alignment and locking detection system, which is compliant with 49 CFR 236.312. This system is interlocked with the new Control Point at Hopper South, formerly known as Petaluma South, which will enforce speeds of 50 mph for passenger trains and 40 mph for freight trains over the bridge when it is properly lined and locked. SMART notes that the conditions of the waiver in Docket Number FRA-2008-0010 shall remain in effect on the other two drawbridges. Those locations are the Brazos Drawbridge at MP 64.7; and the Black Point Drawbridge at MP 28.

A copy of the petition, as well as any written communications concerning the petition, is available for review online at www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by December 21, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also https://www.regulations.gov/privacyNotice for the privacy notice of regulations.gov.

Robert C. Lauby,
Associate Administrator for Railroad Safety, Chief Safety Officer.

[FR Doc. 2016-27952 Filed 11-18-16; 8:45 am]

BILLING CODE 4910-06-P